DEPARTMENT OF ENERGY

Federal Energy Regulatory Commission

[Docket No. PL08-2-000]

Obtaining Guidance on Regulatory Requirements; Notice of Compliance Help Desk Implementation

June 12, 2008.

On May 15, 2008, the Commission issued an order in this proceeding directing the implementation of a compliance help desk on the Commission's Web site to provide a mechanism to submit questions regarding compliance with the statutes, rules, regulations and tariffs administered by the Commission. The compliance help desk is operational and can be found at http://www.ferc.gov/contact-us/compliance-help-desk.asp. A link to the compliance help desk can also be found on the home page of the Commission's Web site, http://www.ferc.gov.

Kimberly D. Bose,
Secretary.

[FR Doc. E8-13811 Filed 6-18-08; 8:45 am]

BILLING CODE 6717-01-P